DEPARTMENT OF HOUSING AND URBAN DEVELOPMENT

[Docket No. FR-5683-N-85]

30-Day Notice of Proposed Information Collection: Family Self-Sufficiency Program (FSS)

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: October 25, 2013.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QDAM, Department of Housing and Urban Development, 451 7th Street SW., Washington, DC 20410; email Colette Pollard at Colette.Pollard@hud.gov or telephone 202-402-3400. Persons with hearing or speech impairments may access this number through TTY by calling the toll-free Federal Relay Service at (800) 877-8339. This is not a toll-free number. Copies of available documents submitted to OMB may be obtained from Ms. Pollard.

SUPPLEMENTARY INFORMATION: This notice informs the public that HUD has submitted to OMB a request for approval of the information collection described in Section A. The Federal Register notice that solicited public comment on the information collection for a period of 60 days was published on July 26, 2013.

A. Overview of Information Collection

Title of Information Collection: Family Self-Sufficiency Program (FSS).

OMB Approval Number: 2577-0178.

Type of Request: Revision of a currently approved collection.

Form Number: HUD-52650, HUD-52651, HUD-52652, HUD-50058, HUD-96011, HUD-96010, HUD-2880, HUD-2994-A, HUD-2991, HUD-52752, HUD-52755, SF-424, SF-LLL, HUD-1044.

Description of the need for the information and proposed use: The FSS program, which was established in the National Affordable Housing Act of 1990, promotes the development of local strategies that coordinate the use of public housing assistance and assistance under the Section 8 rental certificate and voucher programs (now known as the Housing Choice Voucher Program) with public and private resources to enable eligible families to increase earned income and financial literacy, reduce or eliminate the need for welfare assistance, and make progress toward economic independence and self-sufficiency. Public Housing Agencies consult with local officials to develop an Action Plan, enter into a Contract of Participation with each eligible family that opts to participate in the program, compute an escrow credit for the family, report annually to HUD on implementation of the FSS program, and complete a funding application for the salary of an FSS program coordinator.

Respondents (i.e. affected public): Public Housing Agencies, Tribes/Tribally Designated Housing Entities, State or Local Governments.

Estimated Annual Reporting and Recordkeeping Burden
Description of information collection | Number of respondents | Responses per year | Total annual responses | Hours per response | Total hours
SF424—Application for Federal Assistance | 1,000 | 1 | 1,000 | 0.75 | 750
SF LLL—Disclosure of Lobbying Activities | 40 | 1 | 40 | 0.17 | 7
HUD 2880—Applicant/Recipient/Disclosure/Update Form (OMB No. 2510-0011) | 1,000 | 1 | 1,000 | 0 | 0
HUD 96011—Facsimile Transmittal (OMB No. 2535-0118) | 1,000 | 1 | 1,000 | 0 | 0
HUD-2991—Certification of Consistency with the Consolidated Plan (OMB No. 2506-0112) | 1,000 | 1 | 1,000 | 0 | 0
HUD 52752—Certification of Consistency with the Indian Housing Plan | 15 | 1 | 15 | 0.25 | 4
HUD-52755—Sample Contract Admin. Partnership Agreement | 40 | 1 | 40 | 0.17 | 7
HUD-2994—A You are Our Client (OMB No: 2535-0116) | 750 | 1 | 750 | 0 | 0
HUD-52651—FSS Application | 1,000 | 1 | 1,000 | 1 | 1,000
HUD 96010—Logic Model (OMB No. 2535-0114) | 1,000 | 1 | 1,000 | 0 | 0
Subtotal (Application) |  |  |  | 2.1 | 1,768
Action Plan | 10 | 1 | 10 | 10 | 100
HUD-52650—Contract of Participation | 900 | 10 | 9,000 | .25 | 2,250
HUD-52652—Escrow Account Credit Worksheet | 750 | 50 | 37,500 | .85 | 31,875
HUD-1044—Grant Agreement* | 250 | 1 | 250 | N/A | N/A
Annual Report (Narrative) | 900 | 1 | 900 | 1 | 900
HUD 96010—Logic Model (OMB No. 2535-0114) | 900 | 1 | 900 | 0 | 0
HUD-50058—Family Report (OMB No. 2577-0083) | 900 | 50 | 45,000 | 0 | 0
Subtotal (Program Reporting/Recordkeeping) |  |  |  | 12.1 | 35,125
Total |  |  |  | 14.2 | 36,893

B. Solicitation of Public Comment

This notice is soliciting comments from members of the public and affected parties concerning the collection of information described in Section A on the following:

(1) Whether the proposed collection of information is necessary for the proper performance of the functions of the agency, including whether the information will have practical utility; (2) The accuracy of the agency's estimate of the burden of the proposed collection of information; (3) Ways to enhance the quality, utility, and clarity of the information to be collected; and (4) Ways to minimize the burden of the collection of information on those who are to respond; including through the use of appropriate automated collection techniques or other forms of information technology, e.g., permitting electronic submission of responses. HUD encourages interested parties to submit comment in response to these questions.

Authority: Section 3507 of the Paperwork Reduction Act of 1995, 44 U.S.C. Chapter 35.

Dated: September 20, 2013.
Colette Pollard,
Department Reports Management Officer Office of the Chief Information Officer.

[FR Doc. 2013-23348 Filed 9-24-13; 8:45 am]

BILLING CODE 4210-67-P